DEPARTMENT OF COMMERCE

National Oceanic and Atmospheric Administration

[I.D. 070500B]

Information Needed for Wreckfish Share Transfer

AGENCY: National Marine Fisheries Service (NMFS), National Oceanic and Atmospheric Administration (NOAA), Commerce.

ACTION: Proposed information collection; comment request.

SUMMARY: The Department of Commerce, as part of its continuing effort to reduce paperwork and respondent burden, invites the general public and other Federal agencies to take this opportunity to comment on this continuing information collection, as required by the Paperwork Reduction Act of 1995, Public Law 104-13 (44 U.S.C. 3506(c)(2)(A)).

DATES: Written comments must be submitted on or before September 8, 2000.

ADDRESSES: Direct all written comments to Linda Engelmeier, Departmental Forms Clearance Officer, Department of Commerce, Room 6086, 14th and Constitution Avenue NW, Washington, DC 20230 (or via Internet at lengelme@doc.gov).

FOR FURTHER INFORMATION CONTACT: Requests for additional information or copies of the information collection instrument(s) and instructions should be directed to Robert Sadler, Southeast Regional Office, 9721 Executive Center Drive, St. Petersburg, Florida 33702, phone 727-570-5326.

SUPPLEMENTARY INFORMATION:

I. Abstract

This mandatory reporting requirement expires November 30, 2000, and is being renewed under authority of 50 CFR Part 622.4. The wreckfish fishery for the South Atlantic is managed under an Individual Transferable Quota System. Under this system fishermen are issued a share of the fishery and an individual annual quota. Shares are issued by certificate and may be bought and sold. Buying and selling of shares are not completed until the transfer is recorded by the National Marine Fisheries Service (NMFS). The information in this collection is necessary so the NMFS can record the sale and thereby monitor the fishery to provide for better conservation and management.

II. Method of Collection

When shares in the wreckfish fishery are sold, information concerning the sale is recorded on the back of the share certificate and sent to the NMFS. The transfer of ownership is recorded and new share certificates issued.

III. Data

OMB Number: 0648-0262.

Form Number: None.

Type of Review: Regular submission.

Affected Public: Business and other for-profit, individuals.

Estimated Number of Respondents: 4.

Estimated Time Per Response: 15 minutes.

Estimated Total Annual Burden Hours: 1 hour.

Estimated Total Annual Cost to Public: Shareholders are charged for the administrative cost of the share transfer. This annual cost is expected to be $160.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 30, 2000.
Madeleine Clayton,
Management Analyst, Office of the Chief Information Officer.

[FR Doc. 00-17372 Filed 7-7-00; 8:45 am]

BILLING CODE 3510-22-F